DEPARTMENT OF HOMELAND SECURITY

Federal Emergency Management Agency

[Docket ID FEMA-2015-0001; Internal Agency Docket No. FEMA-B-1519]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 21, 2015.
Roy E. Wright,
Deputy Associate Administrator for Mitigation, Department of Homeland Security, Federal Emergency Management Agency.

State and county | Location and case No. | Chief executive officer of community | Community map repository | Online location of letter of map revision | Effective date of modification | Community No.
Arizona:
Gila | City of Globe (15-09-0719P) | The Honorable Terence O. Wheeler, Mayor, City of Globe, 150 North Pine Street, Globe, AZ 85501 | 150 North Pine Street, Globe, AZ 85501. | http://www.msc.fema.gov/lomc. | Aug. 27, 2015 | 040029
Gila | Unincorporated areas of Gila County (15-09-0719P) | The Honorable Michael A. Pastor, Chairman, Gila County Board of Supervisors, Gila County Courthouse, 1400 East Ash Street, Globe, AZ 85501 | Gila County Courthouse, 1400 East Ash Street, Globe, AZ 85501 | http://www.msc.fema.gov/lomc. | Aug. 27, 2015 | 040028
Maricopa | City of Goodyear (14-09-4544P) | The Honorable Georgia Lord, Mayor, City of Goodyear, 190 North Litchfield Road, Goodyear, AZ 85338 | City Hall, 190 North Litchfield Road, Goodyear, AZ 85338 | http://www.msc.fema.gov/lomc. | Aug. 28, 2015 | 040046
Maricopa | City of Peoria (14-09-2988P) | The Honorable Cathy Carlat, Mayor, City of Peoria, 8401 West Monroe Street, Peoria, AZ 85345 | City Hall, 8401 West Monroe Street, Peoria, AZ 85345 | http://www.msc.fema.gov/lomc. | Jul. 17, 2015 | 040050
Maricopa | City of Phoenix (15-09-0681P) | The Honorable Greg Stanton, Mayor, City of Phoenix, 200 West Washington Street, Phoenix, AZ 85003 | Street Transportation Department, 200 West Washington Street, 5th Floor, Phoenix, AZ 85345 | http://www.msc.fema.gov/lomc. | Jul. 31, 2015 | 040051
Maricopa | City of Phoenix (15-09-0733P) | The Honorable Greg Stanton, Mayor, City of Phoenix, 200 West Washington Street, Phoenix, AZ 85003 | Street Transportation Department, 200 West Washington Street, 5th Floor, Phoenix, AZ 85003 | http://www.msc.fema.gov/lomc. | Aug. 6, 2015 | 040051
Maricopa | City of Surprise (14-09-3931P) | The Honorable Sharon Wolcott, Mayor, City of Surprise, 16000 North Civic Center Plaza, Surprise, AZ 85374 | Community Development Services, 12425 West Bell Road, Suite D-100, Surprise, AZ 85374 | http://www.msc.fema.gov/lomc. | Jul. 10, 2015 | 040053
Maricopa | Town of Buckeye (14-09-3809P) | The Honorable Jackie A. Meck, Mayor, Town of Buckeye, 530 East Monroe Avenue, Buckeye, AZ 85326 | Town Hall, 100 North Apache Street, Suite A, Buckeye, AZ 85326 | http://www.msc.fema.gov/lomc. | Jun. 19, 2015 | 040039
Maricopa | Town of Buckeye (15-09-0487P) | The Honorable Jackie A. Meck, Mayor, Town of Buckeye, 530 East Monroe Avenue, Buckeye, AZ 85326 | Town Hall, 100 North Apache Street, Suite A, Buckeye, AZ 85326 | http://www.msc.fema.gov/lomc. | Aug. 7, 2015 | 040039
Maricopa | Unincorporated areas of Maricopa County (14-09-3931P) | The Honorable Steve Chucri, Chairman, Maricopa County Board of Supervisors, 301 West Jefferson Street, 10th Floor, Phoenix, AZ 85003 | Flood Control District of Maricopa County, 2801 West Durango Street, Phoenix, AZ 85009 | http://www.msc.fema.gov/lomc. | Jul. 10, 2015 | 040037
Maricopa | Unincorporated areas of Maricopa County (14-09-3809P) | The Honorable Steve Chucri, Chairman, Maricopa County, Board of Supervisors, 301 West Jefferson Street, 10th Floor, Phoenix, AZ 85003 | Maricopa County Flood Control District, 2801 West Durango Street, Phoenix, AZ 85009 | http://www.msc.fema.gov/lomc. | Jun. 19, 2015 | 040037
Maricopa | Unincorporated areas of Maricopa County (15-09-0581P) | The Honorable Denny Barney, Chairman, Maricopa County, Board of Supervisors, 301 West Jefferson Street, Phoenix, AZ 85003 | Flood Control District of Maricopa County, 2801 West Durango Street, Phoenix, AZ 85009 | http://www.msc.fema.gov/lomc. | Jul. 17, 2015 | 040037
Maricopa | Unincorporated areas of Maricopa County (14-09-4544P) | The Honorable Steve Chucri, Chairman, Maricopa County, Board of Supervisors, 301 West Jefferson Street, 10th Floor, Phoenix, AZ 85003 | Flood Control District of Maricopa County, 2801 West Durango Street, Phoenix, AZ 85009 | http://www.msc.fema.gov/lomc. | Aug. 28, 2015 | 040037
Maricopa | Unincorporated areas of Maricopa County (14-09-2988P) | The Honorable Denny Barney, Chairman, Maricopa County, Board of Supervisors, 301 West Jefferson Street, 10th Floor, Phoenix, AZ 85003 | Flood Control District of Maricopa County, 2801 West Durango Street, Phoenix, AZ 85009 | http://www.msc.fema.gov/lomc. | Jul. 17, 2015 | 040037
Mohave | Unincorporated areas of Mohave County (15-09-1030P) | The Honorable Steven C. Moss, Chairman, Mohave County Board of Supervisors, 700 West Beale Street, Kingman, AZ 86402 | City Administration Building, 700 West Beale Street Kingman, AZ 86401 | http://www.msc.fema.gov/lomc. | Aug. 25, 2015 | 040058
Pima | Town of Oro Valley (14-09-4165P) | The Honorable Satish Hiremath, Mayor, Town of Oro Valley, 11000 North La Canada Drive, Oro Valley, AZ 85737 | Planning and Zoning Department, 11000 North La Canada Drive, Oro Valley, AZ 85737 | http://www.msc.fema.gov/lomc. | Aug. 10, 2015 | 040109
Pima | Unincorporated areas of Pima County (15-09-0406P) | The Honorable Sharon Bronson, Chair, Pima County Board of Supervisors, 130 West Congress Street, 11th Floor, Tucson, AZ 85701 | Pima County Flood Control District, 97 East Congress Street, 3rd Floor, Tucson, AZ 85701 | http://www.msc.fema.gov/lomc. | Aug. 19, 2015 | 040073
Pinal | City of Maricopa (15-09-0819P) | The Honorable Christian Price, Mayor, City of Maricopa, 39700 West Civic Center Plaza, Maricopa, AZ 85138 | City Hall, 45145 West Madison Avenue, Maricopa, AZ 85139 | http://www.msc.fema.gov/lomc. | Aug. 21, 2015 | 040052
Pinal | Town of Florence (15-09-0025P). | The Honorable Tom J. Rankin Mayor, Town of Florence, P.O. Box 2670, Florence, AZ 85132 | Department of Public Works, 425 East Ruggles Florence, AZ 85132 | http://www.msc.fema.gov/lomc. | Jul. 10, 2015 | 040084
Pinal | Town of Florence (15-09-0582P) | The Honorable Tom J. Rankin, Mayor, Town of Florence, P.O. Box 2670, Florence, AZ 85132 | Department of Public Works, 425 East Ruggles, Florence, AZ 85132 | http://www.msc.fema.gov/lomc. | Aug. 28, 2015 | 040084
Pinal | Unincorporated areas of Pinal County (15-09-0025P) | The Honorable Cherly Chase, Chair, Pinal County Board of Supervisors, P.O. Box 827, Florence, AZ 85132 | Pinal County Engineering Department, 31 North Pinal Street, Building F, Florence, AZ 85132 | http://www.msc.fema.gov/lomc. | Jul. 10, 2015 | 040077
Yavapai | City of Cottonwood (14-09-4202P) | The Honorable Diane Joens, Mayor, City of Cottonwood, 827 North Main Street, Cottonwood, AZ 86326 | Public Works Department, 1490 West Mingus Avenue, Cottonwood, AZ 86326 | http://www.msc.fema.gov/lomc. | Aug. 20, 2015 | 040096
California:
Kern | City of Shafter (15-09-0191P) | The Honorable Cathy Prout, Mayor, City of Shafter, 336 Pacific Avenue, Shafter, CA 93263 | City Services, 336 Pacific Avenue, Shafter, CA 93263 | http://www.msc.fema.gov/lomc. | Jul. 16, 2015 | 060082
Placer | City of Rocklin (15-09-0659P) | The Honorable George Magnuson, Mayor, City of Rocklin, 3970 Rocklin Road, Rocklin, CA 95677 | Engineering Division, 4081 Alvis Court, Rocklin, CA 95677 | http://www.msc.fema.gov/lomc. | Aug. 21, 2015 | 060242
Riverside | City of Murrieta (15-09-1205P) | The Honorable Harry Ramos, Mayor, City of Murrieta, 1 Town Square, Murrieta, CA 92562 | Department of Public Works and Engineering, One Town Square, Murrieta, CA 92562 | http://www.msc.fema.gov/lomc. | Aug. 19, 2015 | 060751
Riverside | City of Norco (15-09-0162P) | The Honorable Herb Higgins, Mayor, City of Norco, 2870 Clark Avenue, Norco, CA 92860 | City Hall, 2870 Clark Avenue, Norco, CA 92860 | http://www.msc.fema.gov/lomc. | Jul. 3, 2015 | 060256
San Bernardino | City of San Bernardino (14-09-2935P) | The Honorable R. Carey Davis, Mayor, City of San Bernardino, 300 North D Street, 6th Floor, San Bernardino, CA 92418 | Water Department, 399 Chandler Place, San Bernardino, CA 92408 | http://www.msc.fema.gov/lomc. | Aug. 24, 2015 | 060281
San Diego | City of San Diego (14-09-3825P) | The Honorable Kevin L. Faulconer, Mayor, City of San Diego, 202 C Street, 11th Floor, San Diego, CA 92101 | Development Services Center, 1222 1st Avenue, 3rd Floor, San Diego, CA 92101 | http://www.msc.fema.gov/lomc. | Jul. 17, 2015 | 060295
San Diego | Unincorporated areas of San Diego County (14-09-4066P) | The Honorable Bill Horn, Chairman, San Diego County Board of Supervisors, 1600 Pacific Highway, Room 335, San Diego, CA 92101 | Department of Public Works, Flood Control, 5510 Overland Avenue, Suite 410, San Diego, CA 92123 | http://www.msc.fema.gov/lomc. | Aug. 21, 2015 | 060284
San Mateo | City of Foster City (15-09-0526P) | The Honorable Art Kiesel, Mayor, City of Foster City, 610 Foster City Boulevard, Foster City, CA 94404 | City Hall, 610 Foster City Boulevard, Foster City, CA 94404 | http://www.msc.fema.gov/lomc. | Aug. 6, 2015 | 060318
San Mateo | City of San Mateo (15-09-0526P) | The Honorable Maureen Freschet, Mayor, City of San Mateo, 330 West 20th Avenue, San Mateo, CA 94403 | City Hall, 330 West 20th Avenue, San Mateo, CA 94403 | http://www.msc.fema.gov/lomc. | Aug. 6, 2015 | 060328
Ventura | City of Ojai (14-09-1496P) | The Honorable Carlon Strobel, Mayor, City of Ojai, P.O. Box 1570, Ojai, CA 93024 | City Hall, 401 South Ventura Street, Ojai, CA 93024 | http://www.msc.fema.gov/lomc. | Jun. 29, 2015 | 060416
Ventura | City of Oxnard (15-09-1117P) | The Honorable Timothy B. Flynn, Mayor, City of Oxnard, 305 West 3rd Street, Oxnard, CA 93030 | Public Works/Development Services, 305 West 3rd Street, Oxnard, CA 93030 | http://www.msc.fema.gov/lomc. | Aug. 14, 2015 | 060417
Ventura | City of Simi Valley (14-09-3759P) | The Honorable Bob Huber, Mayor, City of Simi Valley, 2929 Tapo Canyon Road, Simi Valley, CA 93063 | Public Works Department, 2929 Tapo Canyon Road, Simi Valley, CA 93063 | http://www.msc.fema.gov/lomc. | Jul. 17, 2015 | 060421
Ventura | City of Simi Valley (14-09-3760P) | The Honorable Bob Huber, Mayor, City of Simi Valley, 2929 Tapo Canyon Road, Simi Valley, CA 93063 | Public Works Department, 2929 Tapo Canyon Road, Simi Valley, CA 93063 | http://www.msc.fema.gov/lomc. | Jul. 17, 2015 | 060421
Ventura | Unincorporated areas of Ventura County (14-09-1496P) | The Honorable Steve Bennett, Chairman, Ventura County Board of Supervisors, 800 South Victoria Avenue, Ventura, CA 93009 | Hall of Administration, 800 South Victoria Avenue, Ventura, CA 93009 | http://www.msc.fema.gov/lomc. | Jun. 29, 2015 | 060413
Ventura | Unincorporated areas of Ventura County (15-09-1117P) | The Honorable Kathy I. Long, Chair, Venura County Board of Supervisors, 800 South Victoria Avenue, Ventura, CA 93009 | Ventura County Hall of Administration, Public Works Agency: Permit Counter, 800 South Victoria Avenue, Ventura, CA 93009 | http://www.msc.fema.gov/lomc. | Aug. 14, 2015 | 060413
Ventura | Unincorporated areas of Ventura County (14-09-3759P) | The Honorable Kathy I. Long Chair, Ventura County Board of Supervisors, 800 South Victoria Avenue, Ventura, CA 93009 | Ventura County Hall of Administration Public Works Agency: Permit Counter, 800 South Victoria Avenue Ventura, CA 93009 | http://www.msc.fema.gov/lomc. | Jul. 17, 2015 | 060413
Ventura | Unincorporated areas of Ventura County (14-09-3760P) | The Honorable Kathy I. Long, Chair, Ventura County Board of Supervisors, 800 South Victoria Avenue, Ventura, CA 93009 | Ventura County Hall of Administration, Public Works Agency: Permit Counter, 800 South Victoria Avenue, Ventura, CA 93009 | http://www.msc.fema.gov/lomc. | Jul. 17, 2015 | 060413
Nevada:
Clark | City of Henderson (15-09-0701P) | The Honorable Andy A. Hafen, Mayor, City of Henderson, 240 Water Street, Henderson, NV 89015 | Public Works Department, 240 Water Street, Henderson, NV 89015 | http://www.msc.fema.gov/lomc. | Aug. 24, 2015 | 320005
Clark | City of Henderson (15-09-0720P) | The Honorable Andy A. Hafen, Mayor, City of Henderson, 240 Water Street, Henderson, NV 89015 | Public Works Department, 240 Water Street, Henderson, NV 89015 | http://www.msc.fema.gov/lomc. | Aug. 24, 2015 | 320005
Clark | Unincorporated areas of Clark County (15-09-0720P) | The Honorable Steve Sisolak, Chairman, Clark County Board of Commissioners, 500 South Grand Central Parkway, 6th Floor, Las Vegas, NV 89155 | Office of the Director of Public Works, 500 Grand Central Parkway, Las Vegas, NV 89155 | http://www.msc.fema.gov/lomc. | Aug. 24, 2015 | 320003
Clark | Unincorporated areas of Clark County (15-09-1167P) | The Honorable Steve Sisolak, Chairman, Clark County Board of Commissioners, 500 South Grand Central Parkway, Las Vegas, NV 89155 | Office of the Director of Public Works, 550 Grand Central Parkway, Las Vegas, NV 89015 | http://www.msc.fema.gov/lomc. | Dec. 3, 2015 | 320003
Douglas | Unincorporated areas of Douglas County (15-09-0570P) | The Honorable Doug N. Johnson, Chairman, Douglas County Board of Commissioners, 1616 8th Street, Minden, NV 89423 | Douglas County Public Works Department, 1615 8th Street, Minden, NV 89423 | http://www.msc.fema.gov/lomc. | Jul. 30, 2015 | 320008
Washoe | Unincorporated areas of Washoe County (14-09-3181P) | The Honorable Marsha Berkbigler, Chair, Washoe County Board of Commissioners, P. O. Box 11130, Reno, NV 89520 | Washoe County Administration Building, Department of Public Works, 1001 East Ninth Street, Reno, NV 89512 | http://www.msc.fema.gov/lomc. | Jul. 31, 2015 | 320019

[FR Doc. 2015-14012 Filed 6-8-15; 8:45 am]

BILLING CODE 9110-12-P